DEPARTMENT OF LABOR

Employment and Training Administration

[TA-W-63,674]

Lane Furniture Industries, a Subsidiary of Furniture Brands International, Inc., Upholstery Division, Tupelo, MS; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on August 6, 2008, applicable to the workers of Lane Furniture Industries, Inc., Upholstery Division, Tupelo Mississippi. This notice was published in the Federal Register on August 21, 2008 (73 FR 49491).

At the request of the State agency, the Department reviewed the certification for workers of the subject firm. The workers produce upholstered furniture.

New information shows that Furniture Brands International, Incorporated is the parent firm of Lane Furniture Industries, Inc. Workers wages at the subject firm are being reported under the Unemployment Insurance (UI) tax account for Furniture Brands International, Incorporated.

Accordingly, the Department is amending this certification to properly reflect this matter.

The intent of the Department's certification is to include all workers of Lane Furniture Industries, Inc., a subsidiary of Furniture Brands International, Inc., Upholstery Division, Tupelo, Mississippi who were adversely affected by increased imports of upholstered furniture.

The amended notice applicable to TA-W-63,674 is hereby issued as follows:

All workers of Lane Furniture Industries, Inc., a subsidiary of Furniture Brands International, Inc., Upholstery Division, Tupelo, Mississippi (TA-W-63,674) who became totally or partially separated from employment on or after July 7, 2007 through August 6, 2010, are eligible to apply for adjustment assistance under Section 223 of the Trade Act of 1974, and are also eligible to apply for alternative trade adjustment assistance under Section 246 of the Trade Act of 1974.

Signed in Washington, DC, this 21st day of October 2009.
Richard Church,
Certifying Officer, Division of Trade Adjustment Assistance.

[FR Doc. E9-27016 Filed 11-9-09; 8:45 am]

BILLING CODE 4510-FN-P